DEPARTMENT OF AGRICULTURE

U.S. Codex Office

Codex Committee Meeting of the Codex Committee on General Principles

AGENCY: U.S. Codex Office, USDA.

ACTION: Notice of public meeting and request for comments.

SUMMARY: The U.S Codex Office is sponsoring a public meeting on February 21, 2020. The objective of the public meeting is to provide information and receive public comments on agenda items and draft United States (U.S.) positions to be discussed at the 32nd Session of the Codex Committee on General Principles (CCGP) of the Codex Alimentarius Commission, in Bordeaux, France, March 23-27, 2020. The U.S. Manager for Codex Alimentarius and the Under Secretary for Trade and Foreign Agricultural Affairs recognize the importance of providing interested parties the opportunity to obtain background information on the 32nd Session of the CCGP and to address items on the agenda.

DATES: The public meeting is scheduled for February 21, 2020, from 1:00-4:00 EST.

ADDRESSES: The public meeting will take place in Meeting Room 107-A of the Whitten Building, 1400 Independence Ave. SW, Washington, DC 20250. Documents related to the 32nd Session of the CCGP will be accessible via the internet at the following address: http://www.fao.org/fao-who-codexalimentarius/meetings/en/.

Ms. Mary Frances Lowe, U.S. Delegate to the 32nd Session of the CCGP, invites U.S. interested parties to submit their comments electronically to the following email address: maryfrances.lowe@usda.gov.

Call-In-Number: If you wish to participate in the public meeting for the 32nd Session of the CCGP by conference call, please use the call-in-number: 888-844-9904 and participant code 5126092.

Registration: Attendees may register to attend the public meeting by emailing uscodex@usda.gov by February 19, 2020. Early registration is encouraged because it will expedite entry into the building. The meeting will take place in a Federal building. Attendees should bring photo identification and plan for adequate time to pass through the security screening systems. Attendees who are not able to attend the meeting in person, but who wish to participate, may do so by phone, as discussed above.

For Further Information about the 32nd Session of the CCGP, contact U.S. Delegate, Ms. Mary Frances Lowe, U.S. Manager for Codex Alimentarius, U.S. Codex Office, U.S. Department of Agriculture, 1400 Independence Avenue SW, Room 4861, South Agriculture Building, Washington, DC 20250; phone: +1 (202) 205-7760; email: maryfrances.lowe@usda.gov.

For Further Information about the public meeting Contact: U.S. Codex Office, 1400 Independence Avenue SW, Room 4861, South Agriculture Building, Washington, DC 20250. Phone (202) 205-7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on General Principles (CCGP) are to deal with such procedural and general matters as are referred to it by the Codex Alimentarius Commission, including:

(a) The review or endorsement of procedural provisions/texts forwarded by other subsidiary bodies for inclusion in the Procedural Manual of the Codex Alimentarius Commission; and

(b) The consideration and recommendation of other amendments to the Procedural Manual.

The CCGP is hosted by France. The United States attends the CCGP as a member country of Codex.

Issues To Be Discussed at the Public Meeting

The following items on the Agenda for the 32nd Session of the CCGP will be discussed during the public meeting:

• Matters referred to the committee

• Information on activities of FAO and WHO relevant to the work of CCGP

• Procedural guidance for committees working by correspondence

• Revisions/amendments to Codex texts

• Format and structure of the Codex Procedural Manual

• Discussion paper on monitoring the use of Codex Standards

• Discussion paper on monitoring Codex results in the Context of Sustainable Development Goals (SDGs)

• Other business

Public Meeting

At the February 21, 2020 public meeting, draft U.S. positions on the agenda items will be described and discussed, and attendees will have the opportunity to pose questions and offer comments. Written comments may be offered at the meeting or sent to Ms. Mary Frances Lowe, U.S. Delegate for the 32nd Session of the CCGP (see ADDRESSES). Written comments should state that they relate to activities of the 32nd Session of the CCGP.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (braille, large print, audiotape, etc.) should contact USDA's TARGET Center at (202) 720-2600 (voice and TDD).

Done at Washington, DC, on December 26, 2019.
Mary Lowe,
U.S. Manager for Codex Alimentarius.

[FR Doc. 2020-00590 Filed 1-15-20; 8:45 am]

BILLING CODE P